DEPARTMENT OF AGRICULTURE

Animal and Plant Health Inspection Service

[Docket No. APHIS-2016-0015]

Notice of Request for Revision to and Extension of Approval of an Information Collection; APHIS Pest Reporting and Asian Longhorn Beetle Program

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection that allows the public to report sightings of plant pests and diseases.

DATES: We will consider all comments that we receive on or before May 31, 2016.

ADDRESSES: You may submit comments by either of the following methods:

• Federal eRulemaking Portal: Go to http://www.regulations.gov/#!docketDetail;D=APHIS-2016-0015.

• Postal Mail/Commercial Delivery: Send your comment to Docket No. APHIS-2016-0015, Regulatory Analysis and Development, PPD, APHIS, Station 3A-03.8, 4700 River Road Unit 118, Riverdale, MD 20737-1238.

Supporting documents and any comments we receive on this docket may be viewed at http://www.regulations.gov/#!docketDetail;D=APHIS-2016-0015 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on reporting sightings of plant pests and diseases, contact Dr. Robyn Rose, National Policy Manager, PHP, PPQ, APHIS, 4700 River Road Unit 137, Riverdale, MD 20737-1231; (301) 851-2283. For copies of more detailed information on the information collection, contact Ms. Kimberly Hardy, APHIS' Information Collection Coordinator, at (301) 851-2727.

SUPPLEMENTARY INFORMATION: Title: APHIS Pest Reporting and Asian Longhorn Beetle Program.

OMB Control Number: 0579-0311.

Type of Request: Revision to and extension of approval of an information collection.

Abstract: As authorized by the Plant Protection Act (U.S.C. 7701 et seq.) (PPA), the Animal and Plant Health Inspection Service (APHIS), either independently or in cooperation with States, may carry out operations or measures to detect, eradicate, suppress, control, prevent, or retard the spread of plant pests and diseases that are new to or not widely distributed within the United States. This authority allows APHIS to establish control programs for a number of pests and diseases of concern, including Asian longhorned beetle (ALB), emerald ash borer beetle, and citrus greening, to name a few.

APHIS relies on various entities, such as individuals, households, businesses, and State departments of agriculture to report sightings of pests of concern or suspicious signs of pest or disease damage they may see in their local areas. This reporting and the detection and verification methods involved include information collection activities, such as the online pest reporting form (Plant Protection and Quarantine (PPQ) Form 10), inspection and ALB unified survey form (PPQ Form 375), cooperative agreement for inspection, State compliance training workshop records, contract for inspection, homeowner permission or refusal to inspect, tree removal agreement, litigation and warrants and associated letters, removal and monitoring, removal and disposal, disposal/Marshalling Yard, tree warrant, treatment agreement, contract for treatment, and certificate/permit cancellation.

PPQ Form 10 was previously approved by the Office of Management and Budget (OMB) under control number 0579-0311. However, in addition to this form, we are adding the information collection activities listed above to further assist APHIS with its efforts for the detection, treatment, and eradication of various plant pests. As a result, we have revised the name of this information collection from APHIS Pest Reporting Form to APHIS Pest Reporting and Asian Longhorn Beetle Program.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the information collection on those who are to respond, through use, as appropriate, of automated, electronic, mechanical, and other collection technologies; e.g., permitting electronic submission of responses.

Estimate of burden: The public reporting burden for this collection of information is estimated to average 0.63706 hours per response.

Respondents: Individuals and households, businesses, and State departments of agriculture.

Estimated annual number of respondents: 7,055.

Estimated annual number of responses per respondent: 97.62.

Estimated annual number of responses: 688,746.

Estimated total annual burden on respondents: 438,779 hours. (Due to averaging, the total annual burden hours may not equal the product of the annual number of responses multiplied by the reporting burden per response.)

All responses to this notice will be summarized and included in the request for OMB approval. All comments will also become a matter of public record.

Done in Washington, DC, this 25th day of March 2016.
Michael C. Gregoire,
Acting Administrator, Animal and Plant Health Inspection Service.

[FR Doc. 2016-07291 Filed 3-30-16; 8:45 am]

BILLING CODE 3410-34-P